DEPARTMENT OF ENERGY

Federal Energy Regulatory Commission

Notice of Application for Amendment of License and Soliciting Comments, Motions To Intervene, and Protests

September 12, 2005.

Take notice that the following application has been filed with the Commission and is available for public inspection:

a. Type of Application: Request for Temporary Variance of Minimum Flow Requirement.

b. Project No: 10440-094.

c. Date Filed: August 23, 2005.

d. Applicant: Alaska Power and Telephone Company.

e. Name of Project: Black Bear Lake Hydroelectric Project.

f. Location: Black Bear Lake on Prince of Wales Island in southeast Alaska in Prince of Wales-Outer Ketchikan Borough.

g. Filed Pursuant to: 18 CFR 4.200.

h. Applicant Contact: Glen Martin, P.O. Box 222, Port Townsend, WA 98368.

i. FERC Contact: John K. Novak, john.novak@ferc.gov, (202) 502-6076.

j. Deadline for filing comments, motions to intervene and protest: October 6, 2005.

k. Description of Application: The licensee is requesting a temporary waiver of the minimum flow requirements as set forth in Article 405 of the project license. Article 405 requires monthly minimum flows ranging from 9 cubic feet per second (cfs) to 24 cfs; for August and September the flow requirement is 17 cfs and 24 cfs, respectively. As a result of drought conditions in Southeast Alaska and Prince of Wales Island, the licensee has not been able to maintain the required license flows and is requesting approval to operate at reduced flows through September. Currently the licensee is supplementing generation with diesel. The licensee has consulted with the appropriate resource agencies, and these agencies are in agreement with the licensee(s mode of operation during this drought.

l. Location of the Application: The filing is available for inspection and review at the Commission's Public Reference Room, located at 888 First Street, NE, Room 2A, Washington, DC 20426 or by calling (202) 502-8371. This filing may also be viewed on the Commission's Web site at http://www.ferc.gov using the (eLibrary ( link. Enter the docket number (excluding the last three digits) into the “Docket Number” field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the addresses in item h.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers (P-10440-094). All documents (including an original and eight copies) should be filed with: Ms. Magalie R. Salas, Secretary, Federal Energy Regulatory Commission, 888 First Street NE, Washington, DC 20426. A copy of any motion to intervene must also be served upon each representative of the licensee specified in the particular application.

p. Agency Comments: Federal, State, and local agencies are invited to file comments on the described filing. A copy of the filing may be obtained by agencies directly from the licensee. If an agency does not file comments within the time specified for filing comments, it will be presumed to have no comments. One copy of an agency's comments must also be sent to the licensee's representatives.

q. Comments, protests, and interventions may be filed electronically via the Internet in lieu of paper. See 18 CFR 385.2001(a)(1)(iii) and the instructions on the Commission's Web site at http://www.ferc.gov under e-Filing link.

Magalie R. Salas,
Secretary.

[FR Doc. E5-5095 Filed 9-16-05; 8:45 am]

BILLING CODE 6717-01-P